DEPARTMENT OF COMMERCE

Patent and Trademark Office

Agency Information Collection Activities; Submission to the Office of Management and Budget for Review and Approval; Comment Request; Patent and PTAB Pro Bono Programs

AGENCY: United States Patent and Trademark Office, Department of Commerce.

ACTION: Notice of information collection; request for comments.

SUMMARY: The United States Patent and Trademark Office (hereafter “USPTO” or “Agency”) will submit the following information collection request to the Office of Management and Budget (OMB) for review and clearance in accordance with the Paperwork Reduction Act of 1995, on or after the date of publication of this notice. The USPTO invites comments on the information collection renewal of 0651-0082, which helps the USPTO assess the impact of its information collection requirements and minimize the reporting burden to the public. Public comments were previously requested via the Federal Register on October 22, 2025, during a 60-day comment period (90 FR 47732). This notice allows for an additional 30 days for public comments.

DATES: To ensure consideration, you must submit comments regarding this information collection on or before March 20, 2026.

ADDRESSES: Written comments and recommendations for this information collection should be submitted within 30 days of the publication of this notice on the following website, http://www.reginfo.gov/public/do/PRAMain. Find this particular information collection by selecting “Currently under 30-day Review—Open for Public Comments” or by using the search function and entering either the title of the information collection or the OMB Control Number, 0651-0082. Do not submit Confidential Business Information or otherwise sensitive or protected information.

FOR FURTHER INFORMATION CONTACT:

• This information collection request may be viewed at http://www.reginfo.gov. Follow the instructions to view the Department of Commerce, USPTO information collections currently under review by OMB.

• Email: InformationCollection@uspto.gov. Include “0651-0082 information request” in the subject line of the message.

• Mail: Justin Isaac, Office of the Chief Administrative Officer, United States Patent and Trademark Office, P.O. Box 1450, Alexandria, VA 22313-1450.

SUPPLEMENTARY INFORMATION:

Title: Patent and PTAB Pro Bono Programs.

OMB Control Number: 0651-0082.

Abstract: The Leahy-Smith America Invents Act (AIA), Public Law 112-29 § 32 (2011) directs the USPTO to work with and support intellectual property law associations across the country in the establishment of pro bono programs designed to assist financially under-resourced independent inventors and small businesses (also referred to as “regional hubs”). To support this, the USPTO works with and supports various non-profit organizations to operate a series of autonomous regional hubs that endeavor to match under-resourced inventors with volunteer patent practitioners across the United States. The regional hubs comprise law schools, bar associations, innovation/entrepreneurial organizations, and arts-focused lawyer referral services that are strategically located to provide access to patent pro bono services across all fifty states, the District of Columbia, and Puerto Rico.

To support the purposes described above, the Patent Pro Bono Survey collects information regarding the activity of the regional hubs. The USPTO works with the Pro Bono Advisory Council (PBAC) to determine what information is necessary to evaluate the effectiveness of each regional hub's operations. The PBAC is a well-established group of patent practitioners and thought leaders in intellectual property who provide support and guidance to the regional hubs across the country. The collected data provides the USPTO with valuable information, including the number of inventor inquiries, referral sources, number of pro bono applicants successfully matched with patent practitioners, and types of patent filings. The USPTO, PBAC, and the regional hubs, are responsible for the quarterly collection of this data.

The USPTO's Patent Trial and Appeal Board (PTAB), collaborates with the PTAB Bar Association, a non-profit organization that has taken up the task of helping secure the just, speedy, and inexpensive resolution of PTAB proceedings and serves the public by coordinating pro bono opportunities. The PTAB Bar Association established a national clearinghouse that acts as a matchmaker connecting under-resourced inventors with volunteer patent practitioners across the United States for assistance in preparing and arguing ex parte appeals before the PTAB. The PTAB Bar Association's national clearinghouse provides nationwide access to legal representation for pro bono ex parte appeal services. The PTAB Pro Bono Program supports the purposes described above by facilitating the availability of pro bono services for proceedings before the PTAB, which the USPTO believes can help reduce the financial burden on under-resourced inventors seeking ex parte appeal assistance.

This information collection covers the surveys used in the Patent and PTAB Pro Bono Programs. The surveys gather information about the effectiveness of the programs and how participants utilize the programs' resources. The information, at its highest level, allows the USPTO to determine whether the regional hubs and national clearinghouse are matching qualified under-resourced inventors with volunteer patent practitioners and help estimate the total economic benefit derived by under-resourced inventors in the form of donated legal services. This information also helps the USPTO determine if the regional hubs and clearinghouse are effectively serving under-resourced inventors and whether they need additional support.

Forms:

• USPTO/550 (Patent Pro Bono Survey)

• USPTO/552 (PTAB Pro Bono Survey)

Type of Review: Extension and revision of a currently approved information collection.

Affected Public: Private sector.

Respondent's Obligation: Required to obtain or retain benefits.

Frequency: Quarterly, annually.

Estimated Number of Annual Respondents: 22 respondents.

Estimated Number of Annual Responses: 85 responses.

Estimated Time per Response: The USPTO estimates that the responses in this information collection will take the public approximately 1.75 hours (105 minutes) to complete. This includes the time to gather the necessary information, create the document, and submit the completed item to the USPTO.

Estimated Total Annual Respondent Burden Hours: 149 hours.

Estimated Total Annual Respondent Non-hourly Cost Burden: $0.

Justin Isaac,
Information Collections Officer, Office of the Chief Administrative Officer, United States Patent and Trademark Office.

[FR Doc. 2026-03203 Filed 2-17-26; 8:45 am]

BILLING CODE 3510-16-P